DEPARTMENT OF DEFENSE

Department of the Army; Corps of Engineers

Notice of Availability for the Final Environmental Impact Statement/Environmental Impact Report for the Berths 136-147 [TraPac] Container Terminal Project, Los Angeles County, CA

AGENCY: Department of the Army—U.S. Army Corps of Engineers, DoD.

ACTION: Notice of availability.

SUMMARY: The U.S. Army Corps of Engineers, Los Angeles District (Regulatory Division), in coordination with the Port of Long Angeles, has completed a Final Environmental Impact Statement/Environmental Impact Report (EIS/EIR) for the Berths 136-147 [TraPac] Container Terminal Project. The Port of Los Angeles requires authorization pursuant to Section 404 of the Clean Water Act and Section 10 of the River and Harbor Act to expand and modernize the container terminal at Berths 136-147 [TraPac], including: Expanding, redeveloping, and constructing container terminal facilities and a new on-dock rail facility; constructing 500 space parking lot for union workers; wharf work including dredging 295,000 cubic yards, renovating 2,900 feet of existing wharf, and constructing 705 feet of new wharf; installing five new gantry cranes to replace six existing gantry cranes; relocating the existing PHL Pier A switcher yard to Rear Berth 200; widening Harry Bridges Boulevard and constructing a new 30-acre landscaped buffer area between “C” Street and Harry Bridges Boulevard; and filling the 10-acre Northwest Slip, constructing backlands facilities on the fill, and constructing a new 400-foot wharf along the edge of the fill. In addition, the Port of Los Angeles is considering transporting and discharging at ocean disposal sites excess clean material generated by the dredging activities, which would require authorization pursuant to Section 103 of the Marine Protection, Research, and Sanctuaries Act.

FOR FURTHER INFORMATION CONTACT: Questions or comments concerning the Final EIS/EIR should be directed to Dr. Spencer D. MacNeil, Senior Project Manager, North Coast Branch, Regulatory Division, U.S. Army Corps of Engineers, P.O. Box 532711, Los Angeles, CA 90053-2325, (805) 585-2152.

SUPPLEMENTARY INFORMATION: None.

David J. Castanon,
Chief, Regulatory Division, Los Angeles District.

[FR Doc. E7-22873 Filed 11-21-07; 8:45 am]

BILLING CODE 3710-KF-P